DEPARTMENT OF ENERGY

Federal Energy Regulatory Commission

[Docket No. CP19-479-000]

Northern Natural Gas Company; Notice of Schedule for Environmental Review of The Bushton to Clifton A-Line Abandonment Project

On June 7, 2019, Northern Natural Gas Company (Northern) filed an application in Docket No. CP19-479 requesting a Certificate of Public Convenience and Necessity pursuant to Section 7(b) and 7(c) of the Natural Gas Act to abandon, construct, and operate certain natural gas pipeline facilities. The proposed project is known as the Bushton to Clifton A-line Abandonment Project (Project). The Project would consist of abandoning in-place segments of Northern's A-line and J-line facilities and constructing modifications at the existing Tescott Compressor Station. Due to the age of the pipeline, Northern has been operating segments of the A-line and J-line at reduced pressures to minimize safety risks, and the proposed abandonment will eliminate these safety concerns. The Project is located in Clay, Cloud, Ellsworth, Lincoln, Ottawa, and Rice Counties, Kansas.

On June 16, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 8, 2019

90-day Federal Authorization Decision Deadline—February 6, 2020

If a schedule change becomes necessary, additional notice will be provided so that the relevant agencies are kept informed of the Project's progress.

Project Description

Northern is proposing to abandon in-place the A-line facilities consisting of approximately 92.76 miles of 26-inch-diameter pipeline on Northern's M640A and M630A and 15.74 miles of 24-inch-diameter pipeline on its M640J pipeline systems and other appurtenant facilities. The Project would consist of the following pipelines and facilities:

• The M640A and M630A-lines: Abandonment of the M640 A-line in Kansas consists of approximately 45.64 miles of 26-inch-diameter pipeline beginning at Northern's Bushton Compressor Station located in Ellsworth County, Kansas, and ending near the Tescott Compressor Station in Ottawa County, Kansas. Abandonment of the M630 A-line in Kansas consists of approximately 47.12 miles of 26-inch-diameter pipeline beginning at the Tescott Compressor Station and ending at Northern's Clifton Compressor Station located in Clay County, Kansas.

• The M640 J-line: Abandonment of the M640 J-line in Kansas consists of approximately 15.74 miles of 24-inch-diameter pipeline beginning at Block Valve JBJ04 located in Ellsworth County, Kansas, and ending near Block Valve JXA07 located in Ottawa County, Kansas.

• Tescott Compressor Station: Northern proposes to construct and operate an additional natural gas-driven ISO rated 11,152 horsepower Solar Mars turbine unit (Unit No. 6) at the existing Tescott Compressor Station. The unit will tie into station piping that is connected to Northern's existing mainlines. Approximately 85 feet of 24-inch-diameter station piping, approximately 40 feet of 36-inch-diameter station piping, and approximately 80 feet of 8-inch-diameter station piping will be removed to accommodate tie-ins.

After abandonment, Northern will continue to operate the other pipelines in its right-of-way and maintain its pipeline easements with the exception of a segment of J-line that will be abandoned in-place.

Background

On July 16, 2019, the Commission issued a Notice of Intent to Prepare an Environmental Assessment for the Proposed Bushton to Clifton A-Line Abandonment Project and Request for Comments on Environmental Issues (NOI). The NOI was sent to affected landowners; federal, state, and local government agencies; elected officials; environmental and public interest groups; Native American tribes; other interested parties. To date, no comments have been received in response to the NOI. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-479), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 30, 2019.
Nathaniel J. Davis, Sr.,
Deputy Secretary.

[FR Doc. 2019-16623 Filed 8-2-19; 8:45 am]

BILLING CODE 6717-01-P